FEDERAL COMMUNICATIONS COMMISSION

47 CFR Part 54

[WC Docket Nos. 10-90; DA 13-598]

Survey of Urban Rates

AGENCY: Federal Communications Commission.

ACTION: Final rule; announcement of effective date.

SUMMARY: In this document, the Federal Communications Commission (Commission) announces that the Office of Management and Budget (OMB) has approved, until October 31, 2016, the information collection associated with the Commission's Connect America Fund, Order, (Order), released on April 3, 2013. The Commission submitted a request for approval of a new collection under control number 3060-1192 to the OMB for review and approval, as required by the Paperwork Reduction Act (PRA) of 1995 (44 U.S.C. 3501-3520). This notice is consistent with the Order, which stated that the Commission would publish a document in the Federal Register announcing the effective date of those rules once it receives OMB approval.

DATES: The Commission received approval for the information collection requirements contained in 3060-1192 on October 22, 2013. Therefore, the Commission announces that these requirements become effective November 25, 2013.

FOR FURTHER INFORMATION CONTACT: Suzanne Yelen, Assistant Division Chief, Wireline Competition Bureau, at (202) 418-0626.

SUPPLEMENTARY INFORMATION: This document announces that, on October 22, 2013, OMB approved, for a period of three years, the information collection requirements contained in the Commission's Order, DA 13-598, published at 78 FR 29063, May 17, 2013. The OMB Control Number is 3060-1192. The Commission publishes this notice as an announcement of the effective date of paragraphs 6, 26 and Appendix A of document DA 13-598. If you have any comments on the burden estimates listed below, or how the Commission can improve the collections and reduce any burdens caused thereby, please contact Leslie F. Smith, Federal Communications Commission, Room 1-C216, 445 12th Street SW., Washington, DC 20554, or via email at: Leslie.Smith@fcc.gov. Please include the OMB Control Number, 3060-1192, in your correspondence. The Commission also will accept comments via email. Please send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on October 22, 2013, for the information collection requirements contained in paragraph 6 and 26 and Appendix A of document DA 13-598.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1192.

The foregoing notice is required by the Paperwork Reduction Act of 1995, Public Law 104-13, October 1, 1995, and 44 U.S.C. 3507.

The total annual reporting burdens and costs for the respondents are as follows:

OMB Control Number: 3060-1192.

OMB Approval Date: October 22, 2013.

OMB Expiration Date: October 31, 2016.

Title: Survey of Urban Rates, DA 13-598.

Form Number: N/A.

Respondents: Providers of fixed voice and fixed broadband residential services.

Number of Respondents and Responses: 1,000 respondents; 1,000 responses.

Estimated Time per Response: 3.5 hours.

Frequency of Response: Annually.

Obligation to Respond: Required. Statutory authority for this information collection is contained in 47 U.S.C. 254(b).

Total Annual Burden: 3,500 hours.

Total Annual Cost: $0.

Nature and Extent of Confidentiality: The Commission is not requesting that respondents submit confidential information to the Commission. Also, respondents may request materials or information submitted to the Commission be withheld from public inspection under 47 CFR 0.459 of the Commission's rules.

Needs and Uses: In April 2013, the Wireline Competition Bureau of the Federal Communications Commission adopted an Order (Order), in WC Docket No. 10-90; DA 13-598, 78 FR 29063, Connect America Fund. The Order adopts the form and content for a survey of urban rates for fixed voice and fixed broadband residential services for purposes of implementing various reforms adopted as part of the USF/ICC Transformation Order, 76 FR 73830, November 29, 2011. The information collected in this survey will be used to establish a rate floor that eligible telecommunications carriers (ETCs) receiving high-cost loop support (HCLS) or frozen high-cost support must meet to receive their full support amounts and to help ensure that universal service support recipients offering fixed voice and broadband services do so at reasonably comparable rates to those in urban areas.

The rate floor and comparability requirements are important components of the Commission's overall effort to improve accountability for the use of universal service funding. The rate floor will prevent the use of universal service subsidizes to support artificially low local rates in rural areas. The comparability requirements will ensure that rates are reasonably comparable for voice as well as broadband service, between urban and rural, insular, and high cost areas. Rates must be reasonably comparable so that consumers in rural, insular, and high cost areas have meaningful access to these services.

This Order requires a statistically valid sample of urban providers to complete a survey with information regarding the types and prices of their offerings. The Commission intends to implement this survey through an online reporting form accessible to those urban providers of fixed voice and broadband services that are chosen to participate. The Administrator, the Universal Service Administrative Company, may assist in administering the survey.

In the near future, the Bureau will issue a public notice providing detailed instructions and announcing the deadline for the submission of data and providing further filing information.

Federal Communications Commission.
Rodger Woock,
Chief, Industry Analysis and Technology Division, Wireline Competition Bureau.

[FR Doc. 2013-28106 Filed 11-22-13; 8:45 am]

BILLING CODE 6712-01-P